CHEMICAL SAFETY AND HAZARD INVESTIGATION BOARD

Sunshine Act Meeting

TIME AND DATE: January 28, 2015, 6:00 p.m.-9:00 p.m. PST.

PLACE: Richmond City Hall, 450 Civic Center Plaza, Richmond, CA 94804.

STATUS: Open to the public.

MATTERS TO BE CONSIDERED: The Chemical Safety and Hazard Investigation Board (CSB) will convene a public meeting on January 28, 2015, starting at 6:00 p.m. PST at the Richmond City Hall, 450 Civic Center Plaza, Richmond, CA 94804. At the public meeting, the Board will consider and vote on the final report of the CSB's investigation into the August 6, 2012, fire at the Chevron-Richmond refinery that endangered 19 workers and sent more than 15,000 local residents to seek medical attention.

The public meeting is intended to provide the affected community and interested stakeholders with findings, conclusions and recommendations resulting from the CSB's investigation into the Chevron incident.

Following the staff presentation, the Board will hear comments from the public. All staff presentations are preliminary and are intended solely to allow the Board to consider in a public forum the issues and factors involved in the case. No factual analyses, conclusions, or findings presented by staff should be considered final. At the conclusion of the staff presentation, the Board may vote on the final product(s).

Lastly, the Board may also consider such other items of business as determined by the Chairperson.

Additional Information

The meeting is free and open to the public. If you require a translator or interpreter, please notify the individual listed below as the “Contact Person for Further Information,” at least five business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

Members of the public are invited to make brief statements to the Board at the conclusion of the staff presentation. The time provided for public statements will depend upon the number of people who wish to speak. Speakers should assume that their presentations will be limited to five minutes or less, but commenters may submit written statements for the record.

Contact Person for Further Information

Hillary J. Cohen, Communications Manager, hillary.cohen@csb.gov or (202) 446-8094. General information about the CSB can be found on the agency Web site at: www.csb.gov.

Dated: January 14, 2015.
Daniel M. Horowitz,
Managing Director.

[FR Doc. 2015-00765 Filed 1-14-15; 4:15 pm]

BILLING CODE 6350-01-P